DEPARTMENT OF JUSTICE

Antitrust Division

Notice Pursuant to the National Cooperative Research and Production Act of 1993—Conveyor Equipment Manufacturers Association

Notice is hereby given that, on September 15, 2004, pursuant to section 6(a) of the National Cooperative Research and Production Act of 1993, 15 U.S.C. 4301 et seq. (“the Act”), Conveyor Equipment Manufacturers Association (“CEMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Conveyor Equipment Manufacturers Association, Naples, FL. The nature and scope of CEMA's standards development activities are: voluntary industry and ANSI standards, written for the mutual benefit of manufacturer, user, and distributor, associated with the proper identification, engineering, and application of conveyors and auxiliary equipment used in the material handling sector of the economy.

Dorothy B. Fountain,
Deputy Director of Operations, Antitrust Division.

[FR Doc. 04-23533 Filed 10-20-04; 8:45 am]

BILLING CODE 4410-11-M